DEPARTMENT OF THE INTERIOR

Fish and Wildlife Service

Draft Environmental Assessment for the Management Plan for Endangered Fishes in the Yampa River Basin

AGENCY: Fish and Wildlife Service, Interior.

ACTION: Notice of document availability.

SUMMARY: The public is invited to comment on a draft Environmental Assessment for the Management Plan for Endangered Fishes in the Yampa River Basin. The Fish and Wildlife Service (Service) has prepared a draft Environmental Assessment under regulations implementing the National Environmental Policy Act of 1969 (NEPA). Council on Environmental Quality adopted regulations in 40 CFR 1501.3(b) state that an agency “may prepare an environmental assessment on any action at any time in order to assist agency planning and decision making.” The proposed action of the Service is to enter into a cooperative agreement with the States of Colorado and Wyoming to implement provisions of the Management Plan for Endangered Fishes in the Yampa River Basin. Future actions that may be undertaken pursuant to this management plan may be subject to additional NEPA documentation requirements on a case-by-case basis.

DATES: Written comments on this draft Environmental Assessment and Management Plan must be received by August 31, 2003. In lieu of or in addition to written comments, comments may be submitted at any of the three public meetings to be held in August 2003. Public meetings are scheduled Monday, August 11, 2003, in Baggs, Wyoming; Tuesday, August 12, 2003, in Steamboat Springs, Colorado; and Wednesday, August 13, 2003, in Craig, Colorado. All meetings are scheduled from 7 p.m. to 9 p.m.

ADDRESSES: Public meetings will be held at the Little Snake River Valley Library, 105 2nd Street, Baggs, Wyoming; Centennial Hall, 124 10th Street, Steamboat Springs, Colorado; and Shadow Mountain Clubhouse, 1055 County Road 7, Craig, Colorado.

Copies of the draft Environmental Assessment and Management Plan are available online at http://www.r6.fws.gov/crrip/yampa.htm or at the following Yampa Valley locations—Bud Werner Memorial Library, 1289 Lincoln Avenue, Steamboat Springs, Colorado; Hayden Town Hall, 178 W. Jefferson Avenue, Hayden, Colorado; Moffat County Public Library, 570 Green Street, Craig, Colorado; Little Snake River Valley Library, 105 2nd Street, Baggs, Wyoming.

Copies of the draft Environmental Assessment and Management Plan, either printed and bound or on CD-ROM, also are available by request. Requests for copies and written comments may be sent to Dr. Robert Muth, Director, by postal mail at Upper Colorado River Endangered Fish Recovery Program, U.S. Fish and Wildlife Service, P.O. Box 25486, DFC, Denver, Colorado, 80225-0486; by fax at (303) 969-7327; or by e-mail at ColoradoRiverRecovery@fws.gov.

FOR FURTHER INFORMATION CONTACT: Dr. Robert Muth, Director, at telephone (303) 969-7322 (extension 268); Mr. Gerry Roehm, Instream Flow Coordinator (extension 272); Ms. Debra Felker, Information and Education Coordinator (extension 227); or at the postal and e-mail addresses above.

SUPPLEMENTARY INFORMATION: The Upper Colorado River Endangered Fish Recovery Program (Program) was established in 1988 by a cooperative agreement among the governors of Wyoming, Colorado, and Utah, Secretary of the Department of the Interior, and Administrator of the Western Area Power Administration for the purpose of recovering four endangered fish species endemic to the Colorado River Basin—the humpback chub (Gila cypha), bonytail (Gila elegans), Colorado pikeminnow (Ptychocheilus lucius), and razorback sucker (Xyrauchen texanus). In August 2002, the Service completed recovery goals for these species, which identify five threat factors that led to their decline. These factors, which include—(1) Destruction, modification, or curtailment of the species' habitat or range; (2) overutilization; (3) disease and predation; (4) inadequacy of existing regulatory mechanisms; and (5) other natural or manmade factors, must be removed or abated to ensure the species' recovery. The recovery goals specify that certain recovery actions be taken to achieve the demographic criteria necessary for the species' downlisting and eventual delisting. Flow modification, obstructions to fish passage, and the presence of competitive and predatory nonnative fishes are considered to present the most significant threats to recovery. Consistent with the recovery goals, Program participants developed a Management Plan for Endangered Fishes in the Yampa River Basin to facilitate recovery of listed fishes as water continues to be depleted from the river to serve the needs of the people of the Yampa Basin now and into the foreseeable future. This management plan identifies a package of recovery actions to be implemented in the Yampa River Basin, including instream flow augmentation, fish passage, and management of nonnative fish populations. The Service proposes to enter into a cooperative agreement to implement the plan. This Federal action requires that the Service fulfill the requirements of the NEPA, for which an Environmental Assessment has been prepared.

Dated: March 27, 2003.
Elliott N. Sutta,
Acting Regional Director, Denver, Colorado.

[FR Doc. 03-17696 Filed 7-29-03; 8:45 am]

BILLING CODE 4310-55-P